FEDERAL MINE SAFETY AND HEALTH REVIEW COMMISSION

Sunshine Act Meeting Notice

November 15, 2012.

TIME AND DATE: 10:00 a.m., Thursday, December 6, 2012.

PLACE: The Richard V. Backley Hearing Room, Room 511N, 1331 Pennsylvania Avenue NW., Washington, DC 20004 (entry from F Street entrance).

STATUS: Open.

MATTERS TO BE CONSIDERED: The Commission will hear oral argument in the matter Prairie State Generating Co., LLC v. Secretary of Labor, Docket Nos. LAKE 2009-711-R, et al. (Issues include whether the Administrative Law Judge erred in upholding the District Manager's disapproval of roof control and ventilation plans submitted by the operator.)

Any person attending this oral argument who requires special accessibility features and/or auxiliary aids, such as sign language interpreters, must inform the Commission in advance of those needs. Subject to 29 CFR 2706.150(a)(3) and 2706.160(d).

CONTACT PERSON FOR MORE INFORMATION: Jean Ellen (202) 434-9950/(202) 708-9300 for TDD Relay/1-800-877-8339 for toll free.

Emogene Johnson,
Administrative Assistant.

[FR Doc. 2012-28393 Filed 11-19-12; 11:15 am]

BILLING CODE 6735-01-P